DEPARTMENT OF AGRICULTURE

Food Safety and Inspection Service

[Docket No. FSIS-2012-0037]

Electronic Filing of Import Inspection Applications for Meat, Poultry, and Egg Products: Availability of Draft Compliance Guide and PGA Message Set Pilot Program

AGENCY: Food Safety and Inspection Service, USDA.

ACTION: Notice and request for comments.

SUMMARY: The Food Safety and Inspection Service (FSIS) is announcing the availability of and requesting comments on a draft compliance guide for U.S. importers and brokers on the electronic filing of import inspection applications for certain meat, poultry, and egg products through the Automated Commercial Environment (ACE). ACE is the Web-based portal for the collection and use of international trade data maintained by U.S. Customs and Border Protection (CBP). FSIS is also announcing a pilot program intended to test the transfer of data from the Participating Government Agency (PGA) Message Set in ACE to FSIS's Web-based data analytics system, the Public Health Information System (PHIS). The PGA Message Set is the data that CBP will collect electronically from U.S. importers and brokers from PGAs. This data will enable agencies to make decisions about which products can come into the U.S. without the multiple paper forms currently used. FSIS encourages U.S. importers and brokers to review the draft compliance guide and, if they are interested, to request participation in FSIS's pilot program. The Agency will consider all comments submitted and will revise the draft compliance guide as necessary.

DATES: Submit electronic or written requests to participate in the pilot program on or before May 28, 2013. Comments on the draft compliance guide should be submitted on or before June 27, 2013.

ADDRESSES: FSIS invites interested persons to submit requests to participate in the pilot program and comments on the compliance guide. Written or email requests to participate in the pilot program should be submitted to Mary Stanley, whose contact information can be found below. Comments on the compliance guide may be submitted by either of the following methods:

• Federal eRulemaking Portal: This Web site provides the ability to type short comments directly into the comment field on this Web page or attach a file for lengthier comments. Go to http://www.regulations.gov. Follow the on-line instructions at that site for submitting comments.

• Mail, including CD-ROMs, etc.: Send to Docket Clerk, U.S. Department of Agriculture, Food Safety and Inspection Service, Office of Policy and Program Development, Risk, Innovations, and Management Division, Docket Clearance Unit, Patriots Plaza 3, 1400 Independence Avenue SW., Mailstop 3782, Room 8-163A, Washington, DC 20250-3700.

• Hand-or courier-delivered submittals: Send to Docket Clerk, U.S. Department of Agriculture, Food Safety and Inspection Service, Office of Policy and Program Development, Risk, Innovations, and Management Division, Docket Clearance Unit, Patriots Plaza 3, 355 E. Street SW., Room 8-163A, Washington, DC 20250-3700.

Instructions: All items submitted by mail or electronic mail must include the Agency name and docket number FSIS-2012-0037. Comments received in response to this notice will be made available for public inspection and posted without change, including any personal information, to http://www.regulations.gov.

Docket: For access to background documents or comments received, go to the FSIS Docket Room at the address listed above between 8:30 a.m. and 4:30 p.m., Monday through Friday.

FOR FURTHER INFORMATION CONTACT: Mary Stanley, Director, International Policy Division, Office of Policy and Program Development, FSIS, USDA, South Agriculture Building, Room 2925-S, 1400 Independence Avenue SW., Washington DC 20250; telephone: (202) 720-0287, fax: (202) 720-4929 or email: mary.stanley@fsis.usda.gov.

SUPPLEMENTARY INFORMATION:

I. Background

The Federal Meat Inspection Act (FMIA) (21 U.S.C. 601 et seq.) and the Poultry Products Inspection Act (PPIA) (21 U.S.C. 451 et seq.) prohibit the importation of meat and poultry products into the United States if such products are adulterated or misbranded and unless they comply with all the inspection, building construction standards, and all other provisions of the Acts and regulations as are applied to domestic products (21 U.S.C. 620, 466). The Egg Products Inspection Act (EPIA) (21 U.S.C. 1031 et seq.) prohibits the importation of egg products unless they have been processed under an approved continuous inspection system of the government of the foreign country of origin and comply with all other provisions of the Act and regulations that apply to United States domestic products (U.S.C. 1046).

FSIS meat, poultry, and egg products import regulations require importers to apply for the inspection of imported product (9 CFR 327.5, 381.198, and 590.920). Applicants complete FSIS Form 9540-1, “Import Inspection Application and Report,” for meat, poultry products, and egg ¹ products. Until recently, the applicants gave the completed Form 9540-1 to FSIS import inspection program personnel, who entered the information from the form into the Automated Import Inspection System (AIIS), the computer system that generated reinspection assignments and received and stored reinspection results. The egg products import request form (FSIS Form 5200-8) information was entered into the Egg Product Database, which was used to track imported egg products and identify shipments for reinspection.

¹ For egg products, applicants had to submit FSIS Form 5200-8, Import Request Egg Products. The Agency has revised FSIS Form 9540-1, Import Inspection Application, to include egg products and additional information the Agency needs to accurately assigning reinspection tasks and sampling of the product.

On May 29, 2012, FSIS replaced AIIS and the Egg Product Database with the import component of PHIS. PHIS has replaced many of the Agency's current systems and has automated many business processes. PHIS provides a streamlined, electronic alternative to the paper-based import inspection application process.

PHIS electronically links with CBP's ACE system, the Web-based portal for the collection and use of international trade data, to create a unified import processing system for entering data. Currently, the PHIS interface with ACE enables the transfer to FSIS of a limited number of data elements collected by CBP that are also required by FSIS. The PGA Message Set defines the additional information FSIS requires from importers to complete the Agency's import application process. The PGA Message Set will enable U.S. importers and customs brokers to enter FSIS import inspection application information directly into the Automated Broker Interface (ABI), which transfers data into ACE as part of the CBP entry process.

The PGA Message Set is a harmonized data set containing information that CBP will collect electronically from U.S. importers and brokers for PGAs, like FSIS. This capability will provide a complete import application, which will facilitate FSIS data entry and clearance of shipments presented for reinspection without using the paper forms currently employed. The PGA Message Set will ultimately provide U.S. importers and brokers with a “single window” to electronically transmit all required import data to the U.S. Government.

Import inspection application information filed with ACE will be sent to PHIS through a data transfer in advance of a shipment's arrival. The electronic receipt of this import information to PHIS will expedite data entry and shipment clearance by FSIS.

To facilitate the implementation of the electronic filing of FSIS-specific data elements, FSIS has developed the draft compliance guide Data Samples and Guidelines for Using the PGA Message Set for Electronic Completion of the U.S. Department of Agriculture (USDA), Food Safety Inspection Service (FSIS) Application for Import Inspection(FSIS Form 9540-1). The draft compliance guide is intended to help U.S. importers and brokers understand the additional FSIS data that will need to be submitted through CBP's ACE system in order to complete the import application process. FSIS has posted this draft compliance guide on its Web page (http://www.fsis.usda.gov/PDF/Data_Samples_Guidelines_PGA_Message_Set.pdf) and is requesting comments on the guidance.

Pilot Program

FSIS intends to initiate a pilot program on May 28, 2013 to test the transfer of data from the PGA Message Set in ACE to PHIS. The Agency encourages U.S. importers and brokers to request to join this pilot program. Instead of submitting the paper-based FSIS Form 9540-1, participating U.S. importers and brokers will use the PGA Message Set to send the additional FSIS-specific data elements through ACE to PHIS before their cargo arrives in to the United States. The specific data elements are outlined in the draft compliance guide. FSIS will determine whether sending data from the PGA Message Set in ACE to PHIS expedites the clearance process. FSIS anticipates that this pilot program will help prepare for the efficient transition from the paper-based FSIS Form 9540-1 to PHIS.

Additional Public Notification

FSIS will announce this notice on-line through the FSIS Web page located at http://www.fsis.usda.gov/regulations_&_policies/Federal_Register_Notices/index.asp.

FSIS also will make copies of this Federal Register publication available through the FSIS Constituent Update, which is used to provide information regarding FSIS policies, procedures, regulations, Federal Register notices, FSIS public meetings, and other types of information that could affect or would be of interest to constituents and stakeholders. The Update is communicated via Listserv, a free electronic mail subscription service for industry, trade groups, consumer interest groups, health professionals and other individuals who have asked to be included. The Update is available on the FSIS Web page. Through the Listserv and the Web page, FSIS is able to provide information to a much broader and more diverse audience.

In addition, FSIS offers an email subscription service which provides automatic and customized access to selected food safety news and information. This service is available at http://www.fsis.usda.gov/News_&_Events/Email_Subscription/. Options range from recalls to export information to regulations, directives and notices. Customers can add or delete subscriptions themselves, and have the option to password protect their accounts.

Done in Washington, DC on: March 25, 2013.
Alfred V. Almanza,
Administrator.

[FR Doc. 2013-07385 Filed 3-28-13; 8:45 am]

BILLING CODE 3410-DM-P